DEPARTMENT OF HOUSING AND URBAN DEVELOPMENT

[Docket No. FR-5828-N-19]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Mr. Robert E. Moriarty, P.E., AFCEC/CI, 2261 Hughes Avenue, Ste. 155, JBSA Lackland, TX 78236-9853; GSA: Mr. Flavio Peres, General Services Administration, Office of Real Property Utilization and Disposal, 1800 F Street NW., Room 7040, Washington, DC 20405, (202) 501-0084; NAVY: Mr. Steve Matteo, Department of the Navy, Asset Management; Division, Naval Facilities Engineering Command, Washington Navy Yard, 1330 Patterson Ave. SW., Suite 1000, Washington, DC 20374; (202) 685-9426; VA: Ms. Jessica L. Kaplan, Department of Veteran Affairs, 810 Vermont Ave. NW., (0031E), Washington, DC 20420 (These are not toll-free numbers).

Dated: April 30, 2015.
Brian P. Fitzmaurice,
Director, Division of Community Assistance, Office of Special Needs Assistance, Programs.

TITLE V, FEDERAL SURPLUS PROPERTY PROGRAM FEDERAL REGISTER REPORT FOR 05/08/2015

Suitable/Available Properties

Building

California

Lab/Engineer Shop

Hwy. 96 to Lower Airport Rd.

Happy Camp CA 96097

Landholding Agency: Agriculture

Property Number: 15201520006

Status: Unutilized

Directions: Klamath National Forest

Comments: off-site removal; 38+yrs. old; 978 sq. ft.; storage; vacant 120+mos.; building is gutted; no future agency need; prior approval to gain access is required; contact Agriculture for more information.

Happy Camp Lower Station Office

64312 2nd Avenue

Happy Camp CA 96039

Landholding Agency: Agriculture

Property Number: 15201520008

Status: Unutilized

Comments: off-site removal; 41+yrs.old; 546 sq. ft.; vacant 24+mos.; storage; no future agency need; contact Agriculture for more information.

Oregon

W2606 Tree Cooler (1067.005651)

38500 Hwy 97 N

Chiloquin OR 97624

Landholding Agency: Agriculture

Property Number: 15201520010

Status: Excess

Comments: off-site removal only; 28+ years; 762 sq. ft.: tree cooler; vacant 120+ months; contact Agriculture for more information.

W2603 Tree Cooler (1066.005651)

38500 Hwy 97 N

Chiloquin OR 97624

Landholding Agency: Agriculture

Property Number: 15201520011

Status: Excess

Comments: off-site removal only; 36+ years old; 343 sq. ft.; Tree cooler; vacant 120+ months; contact Agriculture for more information.

W1027 Chemult 2BR Residence

(1018.005651)

110500 Hwy 97 N

Chemult OR 97731

Landholding Agency: Agriculture

Property Number: 15201520012

Status: Excess

Comments: off-site only; 52+ years old; 1,014 sq. ft.; 48+ months vacant; may be difficult to move; contact Agriculture for more information.

W1038 Chemult 2BR Residence

110500 Hwy 97 N

Chemult OR 97731

Landholding Agency: Agriculture

Property Number: 15201520013

Status: Excess

Directions: (1022.005651) 1397100

Comments: off-site removal only; 48+yrs. old; 1,046 sq. ft.; vacant 72+mos.; wood; may be complicated to move; contact Agriculture for more information.

W1037 Chemult 3BR Residence

110500 Hwy 97 N

Chemult OR 97731

Landholding Agency: Agriculture

Property Number: 15201520014

Status: Excess

Directions: (1021.005651) 1397100

Comments: off-site removal only; 47+yrs. old; 1,132 sq. ft.; 72+mos. vacant; wood; may be difficult to move; contact Agriculture for more information.

2606 SL Storage Shed

65600 Hwy 31

Silver Lake OR 97638

Landholding Agency: Agriculture

Property Number: 15201520015

Status: Excess

Directions: (1105.004681) 0765804

Comments: off-site removal; 37+yrs.old; 1,049 sq. ft.; 72+mos. vacant; storage; contact Agriculture for more information.

1214 SL Trailer 14X70 Tamarack

65600 Hwy 31

Silver Lake OR 97638

Landholding Agency: Agriculture

Property Number: 15201520017

Status: Excess

Directions: (1088.004681) 0765804

Comments: off-site removal only; 35+yrs. old; 924 sq. ft.; vacant 36+mos.; residential; contact Agriculture for more information.

(1209) SL Trailer

14X70 Homette

65600 Hwy 31

Silver Lake OR 97638

Landholding Agency: Agriculture

Property Number: 15201520018

Status: Excess

Directions: (1304.004681) 0765804

Comments: off-site removal only; 34+yrs. old; 891 sq. ft.; vacant 36+mos.; residence; contact Agriculture for more information.

2506 Pai Thomas Creek Gas House

T.37S.R.18E Section 4 NWNW

Paisley OR 97630

Landholding Agency: Agriculture

Property Number: 15201520019

Status: Excess

Directions: (1324.004681) 0765800

Comments: off-site removal only; 55+yrs. old; 96 sq. ft.; 120+ mos. vacant; storage; contact Agriculture for more information.

1320 Pai Thomas Creek WC

Barracks

T.37S.R.18E Section 4 NWNW

Paisley OR 97630

Landholding Agency: Agriculture

Property Number: 15201520020

Status: Excess

Directions: (1315.004681) 0765800

Comments: off-site removal only; 57+yrs. old; 1,600 sq. ft.; 120+ mos. vacant; bunkhouse; poor conditions; may be difficult to move; contact Agriculture for more information.

2200 Pai Thomas Creek WC Warehouse

TT.37S.R.18E. Section 4 NWNW

Paisley OR 97630

Landholding Agency: Agriculture

Property Number: 15201520021

Status: Excess

Directions: (1321.004681) 0765800

Comments: off-site removal only; 39+yrs. old; 1,223 sq. ft.; vacant 120+ mos.; shed; poor conditions; may be difficult to move; contact Agriculture for more information.

2207 LV Geotech Lab & Shop

18049 Hwy 395

Lakeview OR 97630

Landholding Agency: Agriculture

Property Number: 15201520022

Status: Excess

Directions: (1153.004681) 0765802

Comments: off-site removal only; 77+ yrs. old; 5,184 sq. ft.; vacant 120+ mos.; storage; may be difficult to move; contact Agriculture for more information.

2014 LV Conference Building

18049 Hwy 395

Lakeview OR 97630

Landholding Agency: Agriculture

Property Number: 15201520023

Status: Excess

Directions: (1149.004681) 0765802

Comments: off-site removal only; 48+ yrs. old; 1,222 sq. ft.; vacant 120+ mos.; storage; wood; may be difficult to move; contact Agriculture for more information.

Washington

Building 8/Mann-Grandstaff

VA Medical Center

4815 N. Assembly St.,

Spokane WA 99205

Landholding Agency: VA

Property Number: 97201520002

Status: Unutilized

Directions: GSA Inventory No: WA-00021-S

Comments: off-site removal only; no future agency need; difficult to relocate; 65+ yrs.-old; 2,950 sq. ft.; office space; 3+ mons. vacant; repairs needed; asbestos; contact VA for more information.

Building 4/Mann- Grandstaff

VA Medical Center

4815 N. Assembly St.,

Spokane WA 99205

Landholding Agency: VA

Property Number: 97201520003

Status: Excess

Directions: GSA Inventory No: WA-00021-S

Comments: off-site removal only; difficult to relocate; 65+ yrs.-old; 2,500 sq. ft.; asbestos; contact VA for more information.

Building 32/Mann-Grandstaff

VA Medical Center

4815 N. Assembly

Spokane WA 99205

Landholding Agency: VA

Property Number: 97201520004

Status: Unutilized

Directions: GSA Inventory Number: WA-00021-S

Comments: off-site removal only; difficult to relocate; 5,000 sq. ft.; no future agency need; vacant 12+ mons.; mold/sick bldg. syndrome; contact VA for more information.

Unsuitable Properties

Building

California

Facility #1636

112 North Wolfe Ave.

Edwards Air Base CA 93524

Landholding Agency: Air Force

Property Number: 18201520002

Status: Unutilized

Comments: public access denied and no alternative method to gain access without compromising national security.

Reasons: Secured Area

Virginia

Building 509

2600 Tarawa Court

Virginia Beach VA 23459

Landholding Agency: Navy

Property Number: 77201520003

Status: Unutilized

Comments: public access denied and no alternative method to gain access without compromising national security.

Reasons: Secured Area

4 Building

Joint Expeditionary Base Little Greek

Virginia Beach VA 23459

Landholding Agency: Navy

Property Number: 77201520004

Status: Excess

Directions: Bldgs. 3165B; 3165E; 3174; 3165

Comments: public access denied and no alternative method to gain access without compromising national security.

Reasons: Secured Area

Land

Georgia

Proposed Photovoltaic (PV) Sites

Marine Corps Logistics Base

Atlanta GA 31704

Landholding Agency: Navy

Property Number: 77201520005

Status: Underutilized

Comments: public access denied & no alternative method to gain access w/out compromising national security.

Reasons: Secured Area

Hawaii

West Loch

Commander Navy Region Hawaii

Pearl Harbor HI 96860

Landholding Agency: Navy

Property Number: 77201520006

Status: Unutilized

Comments: public access denied and no alternative method to gain access without compromising national security.

Reasons: Secured Area

New York

Former ELM Directional Finder

N. of Haldeman Hollow Rd.

Big Flats NY 14903

Landholding Agency: GSA

Property Number: 54201520004

Status: Excess

GSA Number: 1-U-NY-0990-AA

Directions: Disposal Agency: GSA

Land Holding Agency: Federal Aviation Admin.

Comments: property is not accessible because it is landlocked and can only be reached by crossing private property and there is no established right or means of entry.

Reasons: Not accessible by road

[FR Doc. 2015-10506 Filed 5-7-15; 8:45 am]

BILLING CODE 4210-67-P